Memorandum of October 29, 2021

Delegation of Functions and Authorities Under Section 1299F(i) of the William M. (Mac) Thornberry National Defense Authorization Act for Fiscal Year 2021

Memorandum for the Secretary of State

By the authority vested in me as President by the Constitution and the laws of the United States of America, including section 301 of title 3, United States Code, I hereby delegate to the Secretary of State all functions and authorities vested in the President by section 1299F(i) of the William M. (Mac) Thornberry National Defense Authorization Act for Fiscal Year 2021 (Public Law 116-283).

Any reference herein to the Act related to the subject of this memorandum shall be deemed to include references to any hereafter-enacted provisions of law that are the same or substantially the same as such provisions.

You are authorized and directed to publish this memorandum in the Federal Register.

THE WHITE HOUSE,

Washington, October 29, 2021

[FR Doc. 2021-24281

Filed 11-3-21; 8:45 am]

Billing code 4710-10-P